DEPARTMENT OF THE INTERIOR

Bureau of Land Management

[NM-030-1610-DS]

Notice of Availability (NOA) of the Draft Environmental Impact Statement (DEIS) for the McGregor Range Resource Management Plan Amendment (RMPA) and Notice of Opening of Public Comment Period With Public Meetings

AGENCY: Bureau of Land Management (BLM), Interior.

ACTION: NOA of a DEIS for the McGregor Range RMPA, New Mexico.

SUMMARY: In accordance with Section 202 of the National Environmental Policy Act of 1969 (NEPA), the BLM announces the availability of the DEIS for the McGregor Range RMPA.

The DEIS documents the direct, indirect, and cumulative environmental impacts of four alternative management plans for BLM-administered withdrawn public lands within the McGregor Range. When completed, the RMPA will fulfill the obligations set forth by NEPA, the Federal Land Policy and Management Act, and associated Federal regulations.

DATES: The McGregor Range DEIS and RMPA will be available for review for 90 calendar days from the date the Environmental Protection Agency (EPA) publishes its NOA in the Federal Register. The BLM can best utilize your comments and resource information submissions within the 90-day review period provided above. Formal hearings and open house meetings will be scheduled to provide the public additional opportunities to submit comments on the McGregor Range DEIS and RMPA.

All hearings or meetings and any other public involvement activities will be announced at least 15 days in advance through public notices, media news releases, New Mexico BLM Web site announcements, or mailings.

ADDRESSES: A copy of the DEIS/RMPA has been sent to affected Federal, State, and local government agencies and to interested parties. The document will be available electronically on the following Web site: http://www.nm.blm.gov. Copies of the DEIS/RMPA will be available for public inspection at the following locations: BLM New Mexico State Office, 1474 Rodeo Road, Santa Fe, NM 87505; BLM Las Cruces Field Office, 1800 Marquess, Las Cruces, NM 88005. The current RMPs/EISs, and all other documents relevant to this planning process, are available for public review at the Las Cruces Field Office at the above address.

Written comments may be mailed directly, or delivered to the BLM at: Draft McGregor Range RMPA/EIS, BLM Las Cruces Field Office, 1800 Marquess, Las Cruces, NM 88005. Comments may be electronically mailed to: LCFO_RMP@nm.blm.gov. Comments may be faxed to the BLM at: (505) 525-4412. Comments that are e-mailed or faxed must include “Comments on Draft McGregor RMPA/EIS” in the subject line. Interested parties may also provide written comments during the public open house meetings and hearings. The BLM will only accept comments on the Draft McGregor Range RMPA/EIS if they are submitted in one of the four ways described above. To be given consideration by the BLM all DEIS/RMPA comment submittals must include the commenter's name and street address.

Our practice is to make comments, including the names and street addresses of each respondent, available for public review at the BLM office listed above during business hours 7:45 a.m. to 4:30 p.m., Monday through Friday, except for Federal holidays. Your comments may be published as part of the EIS process. Individual respondents may request confidentiality. If you wish to withhold your name or street address, or both, from public review or from disclosure under the Freedom of Information Act, you must state this prominently at the beginning of your written comments. Such requests will be honored to the extent allowed by law. We will not consider anonymous comments. All submissions from organizations and businesses will be made available for public inspection in their entirety.

FOR FURTHER INFORMATION CONTACT: Mr. Tom Phillips, RMPA Team Leader, at the BLM Las Cruces Field Office (see address above), telephone (505) 525-4377. Requests for information may be sent electronically to: LCFO_RMP@nm.blm.gov with “Attention: McGregor RMPA Information Request” in the subject line.

SUPPLEMENTARY INFORMATION: In 1990, the BLM approved the McGregor Range RMPA that established management direction for the BLM managed withdrawn public lands and resources administered by the BLM Las Cruces Field Office, New Mexico. The administrative area is located in southern Otero County, New Mexico, and includes approximately 606,233 acres of withdrawn public lands within McGregor Range, which is a military training range managed by Ft. Bliss, Texas. Within the McGregor Range, Ft. Bliss administers an additional 70,884 acres owned by the Department of Defense and 17,864 acres managed by the U.S. Forest Service. In 1999, the Military Lands Withdrawal Act (PL 106-65) reauthorized the withdrawn public lands within McGregor Range for use by the Secretary of the Army for military maneuvering, training, and equipment development and testing; training for aerial gunnery, rocketry, electronic warfare; and tactical maneuvering and air support associated with the Air Force Tactical Target Complex; and other defense-related purposes. The Military Lands Withdrawal Act also directed the Secretary of the Interior, after consultation with the Secretary of the Army, to develop a plan for the management of withdrawn public lands. The DEIS documents the direct, indirect, and cumulative environmental impacts of four alternative plans for BLM-administered withdrawn public lands within the McGregor Range. The DEIS describes the physical, biological, cultural, historic, and socioeconomic resources in and around the surrounding planning area. The focus for impact analysis was based on resource issues and concerns identified during scoping and public involvement activities and opportunities. Potential impacts of concern regarding possible management direction and planning decisions (not in priority order) are: development of energy resources and mineral-related issues; special management designations; resource accessibility; special status species management; recreation access and opportunity; and cultural resources management.

Four alternatives were analyzed in detail: The No-action Alternative represents the continuation of existing management plans, policies, and decisions as established in the 1990 McGregor Range RMPA. Alternative A represents a balance of resource use and conservation. Alternative B emphasizes resource use and production. Alternative C represents an emphasis of resource conservation, protection, and enhancement of natural and cultural resources. The BLM's preferred alternative is Alternative A.

Since the publication of the Notice of Intent (NOI) to prepare an RMPA and EIS in the Federal Register on May 15, 2001, open house meetings, scoping meetings, and mailings have been conducted to solicit public comments and input. The Las Cruces Field Office has been providing updates on the development of this RMPA to the Otero County Board of Commissioners and the New Mexico Resource Advisory Council. Tribal governments with interests in the McGregor Range area were also contacted. From the publication date of the NOI in the Federal Register, through September 30, 2004, the BLM solicited for and received approximately 42 written comments from interested parties. In addition, two public meetings were held to provide the public with an opportunity to acquire information about the RMPA process and its status, and to submit comments. These public meetings were held in Alamogordo, New Mexico, on June 20, 2001, and in Las Cruces, New Mexico, on June 21, 2001. The two meetings resulted in 47 oral comments from the public. All comments presented throughout the process have been considered. Background information and maps used in developing the DEIS and RMPA are available for public viewing at the Las Cruces Field Office at the above address.

Dated: November 23, 2004.
Linda S.C. Rundell,
New Mexico State Director.

[FR Doc. 05-1689 Filed 1-28-05; 8:45 am]

BILLING CODE 4310-22-P